DEPARTMENT OF HEALTH AND HUMAN SERVICES

National Institutes of Health

National Cancer Institute Amended; Notice of Meeting

Notice is hereby given of a change in the meeting of the National Cancer Institute Special Emphasis Panel, June 30, 2017, 8:00 a.m. to June 30, 2017, 6:00 p.m., Bethesda North Marriott Hotel & Conference Center, 5701 Marinelli Road, Bethesda, MD, 20852 which was published in the Federal Register on May 5, 2017, 82 FR 21256.

The meeting notice is amended to change the meeting start time to 7:00 a.m. The meeting is closed to the public.

Dated: June 21, 2017.
Melanie J. Pantoja,
Program Analyst, Office of Federal Advisory Committee Policy.

[FR Doc. 2017-13359 Filed 6-26-17; 8:45 am]

BILLING CODE 4140-01-P